FARM CREDIT ADMINISTRATION

Privacy Act of 1974; Altering a System of Records

AGENCY: Farm Credit Administration.

ACTION: Notice of altering a system of records maintained on individuals; request for comments.

SUMMARY: Pursuant to the provisions of the Privacy Act of 1974, as amended (5 U.S.C. 552a), notice is hereby given that the Farm Credit Administration (FCA) is publishing an amended system notice pertaining to personnel security files. The system notice provides information on the existence and character of the system of records. This amended system notice reflects minor changes in the Agency's organization and filing, and clearly identifies the record sources for this system of records.

DATES: Written comments should be received by July 17, 2006. This notice will become effective without further publication on July 31, 2006, unless modified by a subsequent notice to incorporate comments received from the public.

ADDRESSES: Mail written comments to Robert Taylor, Privacy Act Officer, Farm Credit Administration, McLean, Virginia 22102-5090. You may send comments by e-mail to taylorr@fca.gov. Copies of all communications received will be available for examination by interested parties in the offices of the FCA.

FOR FURTHER INFORMATION CONTACT:

Robert Taylor, Privacy Act Officer, Farm Credit Administration, McLean, Virginia 22102-5090, (703) 883-4129, TTY (703) 883-4020,

or

Jane Virga, Senior Counsel, Office of General Counsel, Farm Credit Administration, McLean, Virginia 22102-5090, (703) 883-4071, TTY (703) 883-4020.

SUPPLEMENTARY INFORMATION: This publication satisfies the requirement of the Privacy Act of 1974 that an agency publish a system notice in the Federal Register when there is a revision, change, or addition to the system of records. The FCA did not file a System Report with Congress and the Office of Management and Budget because the changes were minor. There were no significant changes to this system of records. The amended system notice reflects minor changes in the Agency's organization and filing, and clearly identifies the record sources for this system of records.

The amended system of records is: FCA-9, Personnel Security Files. The notice is published in its entirety below.

FCA-9

SYSTEM NAME:

Personnel Security Files—FCA.

SECURITY CLASSIFICATION:

None.

SYSTEM LOCATION:

Farm Credit Administration, 1501 Farm Credit Drive, McLean, VA 22102-5090.

CATEGORIES OF INDIVIDUALS COVERED BY THE SYSTEM:

Current and former FCA employees.

CATEGORIES OF RECORDS IN THE SYSTEM:

This system contains case files compiled during background investigations of employees in sensitive positions. It may include: (a) Security forms (e.g., SF 85P, Questionnaire for Public Trust Positions); (b) investigative reports that may include a credit check, a check of police records, and interviews with neighbors, former supervisors, and coworkers; (c) a determination of suitability for employment or for a security clearance by FCA's security officer; and (d) issuance of clearance statement.

AUTHORITY FOR MAINTENANCE OF THE SYSTEM:

12 U.S.C. 2243, 2252; Executive orders 10450 and 10577.

PURPOSE(S):

We use information in this system of records to determine suitability for employment and to issue a clearance.

ROUTINE USES OF RECORDS MAINTAINED IN THE SYSTEM, INCLUDING CATEGORIES OF USERS AND THE PURPOSES OF SUCH USES:

See the “General Statement of Routine Uses.”

DISCLOSURE TO CONSUMER REPORTING AGENCIES:

None.

POLICIES AND PRACTICES FOR STORING, RETRIEVING, ACCESSING, RETAINING, AND DISPOSING OF RECORDS IN THE SYSTEM:

STORAGE:

We maintain records in file folders.

RETRIEVABILITY:

We retrieve records by name.

SAFEGUARDS:

We maintain records in a locked safe in an area that is secured after business hours. Only the Personnel Security Officer and Alternate Personnel Security Officer have access to the records.

RETENTION AND DISPOSAL:

Files are retained in accordance with the National Archives and Records Administration General Records Schedule requirements for personnel security records.

SYSTEM MANAGER(S) AND ADDRESS:

Personnel Security Officer, Office of Management Services, Farm Credit Administration, 1501 Farm Credit Drive, McLean, VA 22102-5090.

NOTIFICATION PROCEDURE:

Address inquiries about this system of records to: Privacy Act Officer, Farm Credit Administration, 1501 Farm Credit Drive, McLean, VA 22102-5090.

RECORD ACCESS PROCEDURES:

To obtain a record, contact: Privacy Act Officer, Farm Credit Administration, 1501 Farm Credit Drive, McLean, VA 22102-5090, as provided in 12 CFR part 603.

CONTESTING RECORD PROCEDURES:

Direct requests for amendments to a record to: Privacy Act Officer, Farm Credit Administration, 1501 Farm Credit Drive, McLean, VA 22102-5090, as provided in 12 CFR part 603.

RECORD SOURCE CATEGORIES:

Information in this system of records comes from: (a) The individual to whom the record applies; (b) Office of Personnel Management's investigative files maintained by the Investigations Service: (c) employment information maintained by the FCA; and (d) external and internal investigative inquiries by Federal law enforcement agencies.

EXEMPTIONS CLAIMED FOR THE SYSTEM:

Information in this system of records about a confidential source's identity is subject to a specific exemption, 5 U.S.C. 552a(k)(5), to ensure accurate information on employment suitability.

Dated: June 7, 2006.
Roland E. Smith,
Secretary, Farm Credit Administration Board.

[FR Doc. E6-9356 Filed 6-14-06; 8:45 am]

BILLING CODE 6705-01-P